SMALL BUSINESS ADMINISTRATION

[Disaster Declaration #10462 and #10463]

Hawaii Disaster #HI-00004

AGENCY: Small Business Administration.

ACTION: Notice.

SUMMARY: This is a Notice of the Presidential declaration of a major disaster for the State of Hawaii (FEMA-1640-DR), dated 05/02/2006.

Incident: Severe Storms, Flooding, Landslides, and Mudslides.

Incident Period: 02/20/2006 through 04/02/2006.

Effective Date: 05/02/2006.

Physical Loan Application Deadline Date: 07/03/2006.

Economic Injury (EIDL) Loan Application Deadline Date: 02/02/2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 05/02/2006, applications for disaster loans may be filed at the address listed above or other locally announced locations.

The following areas have been determined to be adversely affected by the disaster:

Primary Counties (Physical Damage and Economic Injury Loans): City and County of Honolulu, Kauai County.

Contiguous Counties (Economic Injury Loans Only): None.

The Interest Rates are:

| Percent
For Physical Damage
Homeowners With Credit Available Elsewhere | 5.750
Homeowners Without Credit Available Elsewhere | 2.875
Businesses With Credit Available Elsewhere | 7.408
Other (Including Non-Profit Organizations) With Credit Available Elsewhere | 5.000
Businesses and Non-Profit Organizations Without Credit Available Elsewhere | 4.000

For Economic Injury

Businesses & Small Agricultural Cooperatives Without Credit Available Elsewhere: 4.000.

The number assigned to this disaster for physical damage is 104626 and for economic injury is 104630.

(Catalog of Federal Domestic Assistance Numbers 59002 and 59008.)

Cheri L. Cannon,
Acting Associate Administrator for Disaster Assistance.

[FR Doc. E6-7023 Filed 5-8-06; 8:45 am]

BILLING CODE 8025-01-P